NUCLEAR REGULATORY COMMISSION
[Docket No. 72-39]
Connecticut Yankee Atomic Power Company, Haddam Neck Plant; Environmental Assessment and Finding of No Significant Impact
The U.S. Nuclear Regulatory Commission (NRC or Commission) is considering issuance of an exemption to Connecticut Yankee Atomic Power Company (CYAPCO or licensee), pursuant to 10 CFR 72.7, from the specific provisions of 10 CFR 72,212(a)(2), 72.212(b)(2)(i)(A), 72.212(b)(7), and 72.214. The licensee is using the NAC Multi-Purpose Cansiser System (NAC-MPC), Certificate of Compliance (CoC) No. 1025, to store spent fuel under a general license in an independent spent fuel storage installation (ISFSI) associated with the operation of the Haddam Neck Plant (HNP), located in Middlesex County, Connecticut. The requested exemption would allow CYAPCO to use vacuum drying enhancements prior to completion of the proposed NAC-MPC CoC amendment rulemaking.
Environmental Assessment
Identification of the Proposed Action
The proposed action would exempt CYAPCO from the requirements of 10 CFR 72.212(a)(2), 72.212(b)(2)(i)(A), 72.212(b)(7), and 72.214 for using the NAC-MPC at HNP. These regulations specifically require compliance with the conditions set forth in the CoC for each dry spent fuel storage cask used by an ISFSI general licensee. The NAC-MPC CoC provides limiting conditions for operation (LCO) requirements in Appendix A, Technical Specifications, and Appendix B, Approved Content and Design Features. The proposed action would allow CYAPCO to deviate from (1) the vacuum drying, water cooling, and forced air cooling time limits in LCO 3.1.1 of Appendix A, (2) the canister in transfer cask time limits in LCO 3.1.4 of Appendix A, (3) the fuel cooldown requirements in LCO 3.1.7, (4) the canister removal from concrete cask requirements of LCO 3.1.8, (5) the surface contamination removal time limits in LCO 3.2.1, and (6) the allowable contents fuel assembly limits in Table B2-3 of Appendix B. The proposed action would implement the vacuum drying enhancements requested by NAC International in the NAC-MPC CoC amendment request currently under staff review.
The proposed action is in accordance with the licensee's application dated August 28, 2003.
The Need for the Proposed Action

The proposed action is needed because CYAPCO plans to initiate the transfer of the HNP spent fuel pool contents to the independent spent fuel storage installation in December 2003. The fuel transfer campaign is scheduled to begin immediately following the transfer of Greater than Class C (GTCC) material stored under CYAPCO's 10 CFR Part 50 license. The licensee has stated that the exemption is requested to significantly reduce the time required for vacuum drying and to significantly improve loading operations. Additionally, eliminating unnecessary cooldown cycles and cask handling activities reduces the potential dose to workers consistent with good ALARA practices. Prolonged loading operations are not desired because it would result in delays in the schedule, delays in decommisioning activities, and associated resource impacts due to the delays. The proposed action is necessary because the 10 CFR 72.214 rulemaking to implement the NAC-MPC CoC amendment is not projected for completion until Spring 2004, which will not support the HNP fuel transfer and dry cask storage loading schedule.

Environmental Impacts of the Proposed Action
The NRC has completed its evaluation of the proposed action and concludes that there is no significant environmental impact if the exemption is granted. The staff reviewed the analysis provided in the NAC-MPC amendment application addressing vacuum drying enhancements. The safety evaluation performed by the staff concludes that the NRC has reasonable assurance that the vacuum drying enhancements have no impact on off-site doses. The potential environmental impact of using the NAC-MPC System was initially presented in the Environmental Assessment (EA) for the Final Rule to add the NAC-MPC System to the list of approved spent fuel storage casks in 10 CFR 72.214 (64 FR 12444, dated March 9, 2000), as revised in Amendment No. 1 (66 FR 58956, dated November 20, 2001), in Amendment No. 2 (67 FR 11566, dated March 15, 2002), and in Amendment No. 3 (68 FR 55304, dated September 25, 2003). The vacuum drying enhancements do not increase the probability or consequences of accidents, no changes are being made in the types of any effluents that may be released offsite, and there is no significant increase in occupational or public radiation exposure. Therefore, there are no significant radiological environmental impacts associated with the proposed action.
With regard to potential nonradiological impacts, the proposed action does not have a potential to affect any historic sites. It does not affect nonradiological plant effluents and has no other environmental impact. Therefore, there are no significant nonradiological environmental impacts associated with the proposed action.
Accordingly, the NRC concludes that there are no significant environmental impacts associated with the proposed action.
Alternatives to the Proposed Action
Since there is no significant environmental impact associated with the proposed action, alternatives with equal or greater environmental impact were not evaluated. As an alternative to the proposed action, the staff considered denial of the proposed action. Denial of the exemption would result in no change in current environmental impact, but would result in a potential dose increase to workers involved in cooldown cycle cask handling activities.
Agencies and Persons Consulted
On December 31, 2003, the staff consulted with Mr. Michael Firsick of the Connecticut Department of Environmental Protection, regarding the environmental impact of the proposed action. He had no comments. The NRC staff has determined that a consultation under Section 7 of the Endangered Species Act is not required because the proposed action will not affect listed species or critical habitat. The NRC staff has also determined that the proposed action is not a type of activity having the potential to cause effects on historic properties. Therefore, no further consultation is required under Section 106 of the National Historic Preservation Act.
Finding of No Significant Impact
The environmental impacts of the proposed action have been reviewed in accordance with the requirements set forth in 10 CFR Part 51. Based on the foregoing Environmental Assessment, the Commission finds that the proposed action of granting an exemption from 10 CFR 72.212(a)(2), 72.212(b)(2) (i) (A), 72.212(b)(7), and 72.214 allowing CYAPCO to deviate from the current vacuum drying time limits and incorporate other vacuum drying enhancements, will not significantly impact the quality of the human environment. Accordingly, the Commission has determined not to prepare an environmental impact statement for the proposed action.

For further details with respect to this exemption request, see the CYAPCO's letter dated August 28, 2003. The request for exemption was docketed under 10 CFR Part 72, Docket 72-39. The NRC maintains an Agencywide Documents Access and Management System (ADAMS), which provides text and image files of NRC's public documents. These documents may be accessed through the NRC's Public Electronic Reading Room on the Internet at http://www.nrc.gov/reading-rm/adams.html. If you do not have access to ADAMS or if there are problems in accessing the documents located in ADAMS, contact the NRC Public Document Room (PDR) Reference staff at 1-800-397-4209, or 301-415-4737, or by e-mail at pdr@nrc.gov.

Dated at Rockville, Maryland, this 22nd day of January, 2004.

For the Nuclear Regulatory Commission.
L. Raynard Wharton,
Project Manager, Spent Fuel Project Office, Office of Nuclear Material Safety and Safeguards.

[FR Doc. 04-1943 Filed 1-29-04; 8:45 am]
BILLING CODE 7590-01-P